DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than December 30, 2019.

Interested persons are invited to submit written comments regarding the subject matter of the investigations to the Administrator, Office of Trade Adjustment Assistance, at the address shown below, not later than December 30, 2019.

The petitions filed in this case are available for inspection at the Office of the Administrator, Office of Trade Adjustment Assistance, Employment and Training Administration, U.S. Department of Labor, Room N-5428, 200 Constitution Avenue NW, Washington, DC 20210.

Signed at Washington, DC, this 6th day of December 2019.
Hope D. Kinglock,
Certifying Officer, Office of Trade Adjustment Assistance.

Appendix
[93 TAA Petitions Instituted between 11/1/19 and 11/30/19]
TA-W No. | Subject firm (petitioners) | Location | Date of institution | Date of petition
95341 | Fish People Inc. (State/One-Stop) | Toledo, OR | 11/01/19 | 10/31/19
95342 | Siemens Government Technologies, Inc. (State/One-Stop) | Wellsville, NY | 11/01/19 | 10/31/19
95343 | Smithfield Fresh Meats Company (State/One-Stop) | Newport News, VA | 11/01/19 | 10/31/19
95344 | Synchrony Bank (Company) | Stamford, CT | 11/01/19 | 10/22/19
95345 | Cascade Tissue Group—Waterford, a division of Cascades Tissue Group (State/One-Stop) | Waterford, NY | 11/04/19 | 11/01/19
95346 | Citicorp Credit Services, Inc. (USA) (Workers) | Elk Grove Village, IL | 11/04/19 | 11/01/19
95347 | MTBC Inc. (State/One-Stop) | Somerest, NJ | 11/04/19 | 11/01/19
95348 | Sitel (Workers) | Glasgow, KY | 11/04/19 | 11/02/19
95349 | Chattem Chemical Inc. (State/One-Stop) | Chattanooga, TN | 11/05/19 | 11/04/19
95350 | Church & Dwight Co., Inc. (State/One-Stop) | Colonial Heights, VA | 11/05/19 | 11/04/19
95351 | La-Z-Boy West (State/One-Stop) | Redlands, CA | 11/05/19 | 11/04/19
95352 | Regal Beloit America, Inc. (State/One-Stop) | West Plains, MO | 11/05/19 | 11/04/19
95353 | The Terminix International Company, L.P. (State/One-Stop) | Memphis, TN | 11/05/19 | 11/04/19
95354 | Goldman Sachs (State/One-Stop) | New York City, NY | 11/06/19 | 11/05/19
95355 | Morgantown Machine & Hydralics of West Virginia Inc. (Union) | Morgantown, WV | 11/06/19 | 11/01/19
95356 | RPC Superfos, US Incorporated (State/One-Stop) | Winchester, VA | 11/06/19 | 11/05/19
95357 | Simonds Saw LLC (State/One-Stop) | Fitchburg, MA | 11/06/19 | 11/05/19
95358 | Unilever (State/One-Stop) | Shelton, CT | 11/06/19 | 11/06/19
95359 | Arrow Electronics (State/One-Stop) | Windsor, CT | 11/07/19 | 11/06/19
95360 | Leoni Wiring (State/One-Stop) | Tucson, AZ | 11/07/19 | 11/06/19
95361 | Vision Ease (State/One-Stop) | Ramsey, MN | 11/07/19 | 11/06/19
95362 | WaveFront Technology Inc. (State/One-Stop) | Paramount, CA | 11/07/19 | 11/06/19
95363 | 99 Cents only Stores (State/One-Stop) | Commerce, CA | 11/08/19 | 11/06/19
95364 | Aspect Software (State/One-Stop) | Phoenix, AZ | 11/08/19 | 11/07/19
95365 | Jacobs Engineering (State/One-Stop) | Englewood, CO | 11/08/19 | 11/07/19
95366 | Distinctive Apparel International (Workers) | Randolph, MA | 11/12/19 | 11/08/19
95367 | Flambeau River Papers (Workers) | Park Falls, WI | 11/12/19 | 11/08/19
95368 | Drs Foster & Smith Petco (Workers) | Rhinelander, WI | 11/12/19 | 11/11/19
95369 | Sap America—Sybase Inc. (State/One-Stop) | San Ramon, CA | 11/12/19 | 11/08/19
95370 | Avmed Health Plans (State/One-Stop) | Miami, FL | 11/13/19 | 11/08/19
95371 | Bank of the West (State/One-Stop) | City of Industry, CA | 11/13/19 | 11/12/19
95372 | Ferrara Candy Company (State/One-Stop) | Creston, IA | 11/13/19 | 11/12/19
95373 | Certified Oil Company (Workers) | Columbus, OH | 11/14/19 | 11/14/19
95374 | Formativ Health Management, Inc. (State/One-Stop) | Jacksonville, FL | 11/14/19 | 11/13/19
95375 | Henkel Corporation (State/One-Stop) | Chanhassen, MN | 11/14/19 | 11/13/19
95376 | Jotun Paints, Inc. (State/One-Stop) | Belle Chasse, LA | 11/14/19 | 11/13/19
95377 | Modern Tool Inc. (State/One-Stop) | Coon Rapids, MN | 11/14/19 | 11/13/19
95378 | Winona PVD Coatings, LLC (Company) | Warsaw, IN | 11/15/19 | 11/14/19
95379 | Alder BioPharmaceuticals (State/One-Stop) | Bothell, WA | 11/18/19 | 11/13/19
95380 | Columbian Home Products LLC (State/One-Stop) | Terre Haute, IN | 11/18/19 | 11/15/19
95381 | Komar (Workers) | Jersey City, NJ | 11/18/19 | 11/15/19
95382 | Rite-Aid (IT Technicians in state of Oregon) (State/One-Stop) | Camp Hill, PA | 11/18/19 | 11/15/19
95383 | Superior Steel Fabrication (State/One-Stop) | Eugene, OR | 11/18/19 | 11/15/19
95384 | Baptist Health Floyd (State/One-Stop) | New Albany, IN | 11/19/19 | 11/18/19
95385 | Cenveo Discount Labels (State/One-Stop) | New Albany, IN | 11/19/19 | 11/18/19
95386 | CMC Commercial Metals (State/One-Stop) | Muncie, IN | 11/19/19 | 11/18/19
95387 | Concentrix CVG Corporation (State/One-Stop) | Lake Mary, FL | 11/19/19 | 11/18/19
95388 | Goodwin Brothers Printing Company (State/One-Stop) | Saint Louis, MO | 11/19/19 | 11/18/19
95389 | Northern Trust (Company) | Chicago, IL | 11/19/19 | 11/18/19
95390 | AK Steel Butler (State/One-Stop) | Butler, PA | 11/20/19 | 11/19/19
95391 | Alorica (State/One-Stop) | Mesa, AZ | 11/20/19 | 11/19/19
95392 | Aon Corporation (State/One-Stop) | Lincolnshire, IL | 11/20/19 | 11/19/19
95393 | Syniverse Technologies (State/One-Stop) | Tampa, FL | 11/20/19 | 11/19/19
95394 | Tamco CMC Commercial Metals (State/One-Stop) | Rancho Cucamonga, CA | 11/20/19 | 11/19/19
95395 | API Heat Transfer—Arcade Facility (State/One-Stop) | Arcade, NY | 11/21/19 | 11/15/19
95396 | ATI Portland Forge (State/One-Stop) | Portland, IN | 11/21/19 | 11/20/19
95397 | Carestream Health Inc. (Workers) | Rochester, NY | 11/21/19 | 11/20/19
95398 | Crescent Bank & Trust (State/One-Stop) | Chesapeake, VA | 11/21/19 | 11/20/19
95399 | Georgia Pacific (Workers) | Hope, AR | 11/21/19 | 11/20/19
95400 | Gibson County Coal (State/One-Stop) | Princeton, IN | 11/21/19 | 11/20/19
95401 | GKN Sintered Metals (State/One-Stop) | Emporium, PA | 11/21/19 | 11/20/19
95402 | Echo Bay Minerals Company (State/One-Stop) | Republic, WA | 11/21/19 | 11/19/19
95403 | Owens-Brockway Glass Container, Inc. (State/One-Stop) | Portland, OR | 11/21/19 | 11/20/19
95404 | Shiru Cafe owned by Enrisson Inc. (State/One-Stop) | Amherst, MA | 11/21/19 | 11/20/19
95405 | Golden Star Inc. (State/One-Stop) | Atchison, KS | 11/22/19 | 11/22/19
95406 | Hikvision USA Inc. (State/One-Stop) | City of Industry, CA | 11/22/19 | 11/21/19
95407 | Met Life (State/One-Stop) | Tampa, FL | 11/22/19 | 11/21/19
95408 | Regal Beloit Corporation (Company) | Erwin, TN | 11/22/19 | 11/21/19
95409 | Rite Aid Corp.—TS Computer Operations (Workers) | Shiremanstown, PA | 11/22/19 | 11/22/19
95410 | TE Connectivity Medical Division (State/One-Stop) | Wilsonville, OR | 11/22/19 | 11/21/19
95411 | Amphenol TCS (Company) | Nashua, NH | 11/25/19 | 11/22/19
95412 | Bluestem Brands Inc. (State/One-Stop) | St. Cloud, MN | 11/25/19 | 11/22/19
95413 | Digital Intelligence System (DISYS) (State/One-Stop) | St. Louis, MO | 11/25/19 | 11/22/19
95414 | Hillphoenix (State/One-Stop) | Centerville, IA | 11/25/19 | 11/22/19
95415 | Integrity Biofuels (State/One-Stop) | Morristown, IN | 11/25/19 | 11/25/19
95416 | Line Pipe Systems LLC (Workers) | Rancho Cucamonga, CA | 11/25/19 | 11/22/19
95417 | Qualfon DSG LLC (Workers) | Idaho Falls, ID | 11/25/19 | 11/21/19
95418 | SAP America, Inc. (Workers) | Newtown Square, PA | 11/25/19 | 11/24/19
95419 | Twin City Die Castings (State/One-Stop) | Watertown, SD | 11/25/19 | 11/22/19
95420 | Bed, Bath & Beyond Inc. (State/One-Stop) | Union, NJ | 11/26/19 | 11/21/19
95421 | Dun & Bradstreet (State/One-Stop) | Tucson, AZ | 11/26/19 | 11/25/19
95422 | Eurotherm by Schneider Electric (State/One-Stop) | Ashburn, VA | 11/26/19 | 11/25/19
95423 | MN Star Technologies Inc. (State/One-Stop) | Grand Rapids, MN | 11/26/19 | 11/25/19
95424 | MotivePower, Inc., a subsidiary of Wabtec Corporation (State/One-Stop) | Boise, ID | 11/26/19 | 11/25/19
95425 | Nestle USA (State/One-Stop) | Bordentown, NJ | 11/26/19 | 11/26/19
95426 | Nestle USA (State/One-Stop) | Keasbey, NJ | 11/26/19 | 11/26/19
95427 | Wyndham Vacation Club (State/One-Stop) | Redmond, WA | 11/26/19 | 11/14/19
95428 | Acumed LLC (State/One-Stop) | Hillsboro, OR | 11/27/19 | 11/26/19
95429 | Golden State Overnight (GSO) (State/One-Stop) | San Ramon, CA | 11/27/19 | 11/22/19
95430 | Icebreaker (State/One-Stop) | Portland, OR | 11/27/19 | 11/26/19
95431 | Reyco Granning LLC (State/One-Stop) | Mt. Vernon, MO | 11/27/19 | 11/26/19
95432 | State Street Corporation (State/One-Stop) | Quincy, MA | 11/29/19 | 11/27/19
95433 | Tenaris Hickman (State/One-Stop) | Blytheville, AR | 11/29/19 | 11/27/19

[FR Doc. 2019-27328 Filed 12-18-19; 8:45 am]

BILLING CODE 4510-FN-P